DEPARTMENT OF THE INTERIOR

Bureau of Land Management

[LLCA932000.L13400000.DP0000.LXSSB0020000.16X]

Notice of Areas of Critical Environmental Concern in the Desert Renewable Energy Conservation Plan Proposed Land Use Plan Amendment, California

AGENCY: Bureau of Land Management, Interior.

ACTION: Notice.

SUMMARY: In accordance with the National Environmental Policy Act of 1969, as amended, and the Federal Land Policy and Management Act of 1976, as amended, the Bureau of Land Management (BLM) announced availability of the Proposed Land Use Plan Amendment (LUPA) and Final Environmental Impact Statement (EIS) for the Desert Renewable Energy Conservation Plan (DRECP) with a Notice of Availability published in the Federal Register on November 13, 2015 (80 FR 70254). The Proposed LUPA would amend the California Desert Conservation Area (CDCA) Plan and the Bakersfield and Bishop Resource Management Plans (RMPs). The Proposed DRECP LUPA/Final EIS considers designation of 134 Areas of Critical Environmental Concern (ACECs). In order to comply with Federal Regulations at 43 CFR 1610.7-2(b), the BLM through this notice is announcing a 60-day public comment period on those 134 ACECs. The 134 ACECs listed in this notice are identical to those identified in the alternatives found within the Proposed DRECP LUPA/Final EIS addressed by the publication of the Federal Notice of Availability on November 13, 2015. The scope of this 60-day comment period is limited to these 134 ACEC designations. Comments on other topics are outside the scope of this public comment process

DATES: The comment period pertaining to these ACEC designations closes on May 10, 2016. All comments must be in writing and must be postmarked no later than the close of the last day of the comment period. The BLM provided a 152-day comment period on the Draft DRECP LUPA and Environmental Impact Report (EIR)/EIS. All comments received on the Draft DRECP were considered while developing the Proposed LUPA/Final EIS. As such, the BLM is only seeking comments on the 134 ACECs included in the Proposed LUPA/Final EIS, which are listed in this notice. While the BLM will consider all such comments, it does not intend to respond to each comment individually.

ADDRESSES: Comments must be in writing and must be sent to Vicki Campbell, DRECP Program Manager, 2800 Cottage Way, Suite W-1623, Sacramento, CA 95825; or email blm_ca_drecp@blm.gov.

Copies of the DRECP Proposed LUPA/Final EIS were sent to affected Federal, State, and local government agencies, affected tribal governments, and to other stakeholders concurrent with the November 13, 2015 Notice of Availability. The environmental analysis for the DRECP, including the Draft DRECP and the DRECP Proposed LUPA/Final EIS, is available for review online at www.drecp.org and www.blm.gov/ca/drecp. Please see SUPPLEMENTARY INFORMATION below for a list of locations where copies of the DRECP Proposed LUPA/Final EIS are available for public inspection.

FOR FURTHER INFORMATION CONTACT: Vicki Campbell, Program Manager, DRECP, telephone 916-978-4401; address BLM California State Office, 2800 Cottage Way, Suite W-1623, Sacramento, CA 95825; email vlcampbell@blm.gov. To request a DVD, please send an email to drecp.info@energy.ca.gov or call 916-978-4401 and include the mailing address in the message. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The DRECP was developed with broad public participation through an 6-year collaborative planning process, beginning with publication of a Notice of Intent to amend the CDCA Plan in the Federal Register on November 20, 2009 (74 FR 60291). Subsequently, the BLM and U.S. Fish and Wildlife Service (USFWS) as co-lead agencies jointly published on July 29, 2011 a Notice of Intent to prepare an EIS for the proposed DRECP (76 FR 45606). The BLM published a third Notice of Intent on April 4, 2012 (77 FR 20409), amending the November 20, 2009, and July 29, 2011, notices to include the Bishop, Caliente/Bakersfield, and Eastern San Diego County RMPs in the DRECP LUPA.

As explained in more detail below, the Draft DRECP, which included a Draft BLM LUPA for the CDCA Plan, and the Bishop and Caliente/Bakersfield RMPs, was published on September 26, 2014, (76 FR 57971). The Notice of Availability for the DRECP Proposed LUPA and Final EIS was published on November 13, 2015. In each of these documents and at associated public meetings, the BLM presented a robust discussion of ACECs. The Draft DRECP identified 147 ACECs (58 new and 89 existing), while the Proposed LUPA/Final EIS considered 134 ACECs (all of which are listed below) based on cooperator and stakeholder comments.

The Draft DRECP was developed by the BLM, USFWS, California Energy Commission, and California Department of Fish and Wildlife (collectively, “DRECP Partner Agencies”) to: (1) Advance Federal and State natural resource conservation goals and other Federal land management goals; (2) Meet the requirements of the Federal Endangered Species Act, California Endangered Species Act, Natural Community Conservation Planning Act, and Federal Land Policy and Management Act in the Mojave and Colorado/Sonoran desert region of Southern California; and (3) Facilitate the timely and streamlined permitting of renewable energy projects.

In December 2012, the DRECP Partner Agencies published the Description and Comparative Evaluation of Draft DRECP Alternatives to inform the public about the status of the DRECP alternatives. Members of the public were invited to provide input regarding the development scenarios, conservation designations, and BLM LUPA alternatives, as well as other specific elements presented. Specific to the LUPA, this document included maps showing existing and proposed “Desert Conservation Lands” (existing and proposed ACECs, proposed National Conservation Lands, and proposed Wildlife Allocations), as well as areas managed for recreation and existing and proposed Special Recreation Management Areas. The BLM also disclosed that the land use plan amendments would identify: (1) Desired outcomes expressed as specific goals and objectives; and (2) Allowable uses and management actions designed to achieve those specific goals and objectives. The public was especially encouraged to provide input about the differences among the alternatives.

The Draft DRECP included a strategy that identified and mapped potential areas for renewable energy development and areas for long-term natural resource conservation. The Draft DRECP was released for comment on September 26, 2014, with comments being accepted until February 23, 2015. It included a Draft BLM LUPA for the CDCA Plan, and the Bishop and Caliente/Bakersfield RMPs. The Draft BLM LUPA included six alternatives for the expansion, reduction, modification, and creation of ACECs, ranging from 3,308,000 acres (including 1,048,000 acres within Wilderness Study Areas (WSAs) and Wilderness Areas (No Action)) to 6,199,000 acres (including 1,209,000 acres within WSAs and Wilderness Areas (Alternative 3)). The Preferred Alternative proposed 6,077,000 acres of ACEC (including 1,209,000 acres within WSAs and Wilderness Areas).

The Draft DRECP also proposed Conservation and Management Actions (CMAs) to manage ACECs. CMAs included various resource use limitations. The Draft DRECP included 147 ACECs. Of these, 58 were newly proposed ACECs, and 89 were existing. The alternatives considered a range of footprints and CMAs for both existing and newly proposed ACECs. Maps of each ACEC were included in Appendix L of the Draft DRECP. CMAs were listed in Volume II, with management specific to individual ACECs listed in Appendix L.

In March 2015, the DRECP Partner Agencies announced a phased approach to completing the DRECP. As part of the approach, the BLM component of the DRECP (the LUPA) is being finalized first in Phase I, outlining important designations for conservation and renewable energy on public lands.

The Proposed DRECP LUPA would amend the CDCA Plan for the entire CDCA, and the RMPs for portions of the Bishop and Bakersfield Field Offices. This includes the Mojave Desert and Colorado/Sonoran Desert ecoregion subareas in California. The DRECP Plan Area includes all or a portion of the following counties: Imperial, Inyo, Kern, Los Angeles, Riverside, San Bernardino, and San Diego. The DRECP LUPA Area covers approximately 10,869,000 of BLM-administered lands. The Proposed LUPA also included six alternatives for the expansion, reduction, modification, and creation of ACECs. The 134 ACECs listed in this notice include all the ACECs identified within the range of alternatives analyzed in the Final EIS. Based on comments received on the Draft DRECP, the Proposed LUPA would designate 130 ACECs covering approximately 5,976,000 acres (including 1,101,000 acres within WSAs and Wilderness Areas) and includes CMAs and resource use limitations to manage those ACECs. Those 130 ACECs are a subset of the 134 listed below. The Proposed LUPA clarifies CMAs as they applied to the ACECs. It includes a detailed methodology for implementing and managing for ground disturbance caps in ACECs, including the addition of ground disturbance mitigation. As part of the Proposed LUPA, additional areas were moved into proposed conservation that were not included in the preferred alternative in the Draft EIS, including Silurian Valley, Cadiz Valley, the entirety of the Desert Tortoise Research Natural Area, the Palen-Ford cultural and sand resources areas. Some ACECs included in the Draft DRECP were combined with, or subsumed by other existing ACECs for manageability in the Proposed LUPA. Small amounts of acres were removed from the ACECs to ensure that boundaries were manageable and enforceable, and to remove active mining areas from the ACECs in the Proposed LUPA.

The Notice of Availability for the DRECP Proposed LUPA and Final EIS was published on November 13, 2015, (80 FR 70254), which initiated a 30-day protest period. During the initial review of protest letters received, the BLM determined that it had missed a regulatory requirement, stated in 43 CFR 1610.7-2(b), to specifically list in a Federal Register Notice the proposed ACECs being considered. In order to fulfill this regulatory requirement, the BLM is releasing this NOA to identify the 134 ACECs and associated resource use limitations considered in the Proposed LUPA/Final EIS, and providing an additional 60-day public comment period on those ACECs.

The BLM accepted and considered input from the public on ACEC values and potential designation during scoping for the LUPA, during public comment on the Description and Comparative Evaluation of Draft DRECP Alternatives published in December 2012, and during the five-month comment period on the Draft DRECP LUPA and EIR/EIS. The alternatives analyzed in the Draft DRECP and EIR/EIS varied in number and size of potential ACECs as discussed above.

The BLM then considered comments on the Draft DRECP in the development of the DRECP Proposed LUPA and Final EIS. Of the ACECs analyzed in the draft plan, the Proposed LUPA would designate 130 of the 134 area listed below as ACECs with their associated management and resource use limitations. The remaining four areas identified as potential ACECs were determined to not be appropriate for designation at this time. Resource use limitations were included in Volume II and Appendix L of the Draft DRECP. The BLM considered public comments received during the comment period and refined the CMAs included in the Proposed LUPA.

Special Unit Management Plans were developed specific for each ACEC and are contained in Appendix L of the DRECP Proposed LUPA and Final EIS. The BLM evaluated each proposed and existing ACEC within the DRECP to determine if special management was needed for the following resources and uses:

• Soil, water, air;

• Vegetation—including special status species;

• Fish and wildlife—including special status species;

• Cultural resources;

• Paleontology;

• Trails and travel management;

• Recreation;

• Land tenure;

• Rights of way;

• Minerals (including locatable minerals, mineral materials, and non‐energy leasables); and

• Wild horses and burros.

Where special management, including resource use limitations, is proposed for a specific ACEC, it is identified in that unit's Special Unit Management Plan.

The proposed resource use limitations for all ACECs listed below include limitations on ground disturbing activities. Ground disturbing activities in ACECs would be constrained by specified disturbance caps, which limit the total ground disturbance in the area. The specific ACEC disturbance caps were first disclosed in the Draft DRECP LUPA, are defined in the individual Special Unit Management Plans (Appendix L for the Draft DRECP LUPA and Proposed LUPA/Final EIS), and range from 1.0 percent to 0.1 percent. The methodology for applying the disturbance caps is listed in CMAs ACEC-DIST-1 through ACEC-DIST-3 in Section II.3.4 of the Proposed DRECP LUPA/Final EIS.

Other resource use limitations include limitations on rights-of-way (including prohibition of renewable energy activities and right-of-way avoidance or exclusion for all other rights-of-way), specific design features and mitigation measures to protect cultural and biological resources. These CMAs are listed in Section II.3.4.2.2 and II.3.4.2.4 of the Proposed LUPA/Final EIS.

The DRECP Proposed LUPA includes the following ACECs (note that acreage figures are rounded to the nearest 1000, 100, or 10, as appropriate) (due to rounding and designation overlap, columns do not sum to the total acreage figures discussed above):

Proposed ACEC | Acres (No Action) | Acres (Proposed LUPA) | Relevant and important values
Afton Canyon | 8,800 | 8,800 | Hydrologic and geologic features, paleontological resources, cultural values, wildlife resources.
Alligator Rock | 6,800 | 6,800 | Cultural values.
Amargosa North | 7,100 | 115,900 | Wildlife resources, plant assemblages, riparian resources, cultural values (includes portions of the existing Amargosa River ACEC).
Amargosa South | 19,500 | 147,900 | Wildlife resources, plant assemblages, riparian resources, cultural values (includes portions of the existing Amargosa River ACEC).
Amboy Crater National Natural Area | 600 | 600 | Plant assemblage.
Avawatz Mountains Wilderness Study Area | 0 | 49,800 | Wildlife resources.
Ayers Rock | 0 | 1,600 | Cultural values.
Barstow Carbonate Endemic Plants Research Natural Area | 4,400 | 5,000 | Vegetative resources, wildlife resources.
Barstow Woolly Sunflower | 19,100 | 19,100 | Vegetative resources, wildlife resources.
Bedrock Spring | 800 | 800 | Cultural values, wildlife resources.
Bendire's Thrasher | 11,700 | 9,800 | Wildlife resources (portions of existing ACEC are proposed to be managed as part of the Jawbone/Butterbredt ACEC).
Big Morongo Canyon | 24,900 | 24,900 | Wildlife and vegetative resources, cultural values, riparian resources.
Big Rock Creek Wash | 0 | 300 | Geologic features, vegetative resources, wildlife resources.
Bigelow Cholla | 100 | 4,400 | Wildlife and vegetative resources.
Black Mountain Cultural Area | 51,300 | 51,300 | Cultural values, wildlife and vegetative resources.
Brisbane Valley Monkey Flower | 0 | 11,700 | Vegetative resources.
Bristol Mountains | 0 | 214,200 | Wildlife resources, plant assemblages, cultural values.
Cadiz Valley | 0 | 190,800 | Wildlife resources, unique plant assemblages.
Cady Mountains Wilderness Study Area | 0 | 101,400 | Wildlife resources.
Calico Early Man Site | 800 | 800 | Cultural values.
Caliente Creek Area of Ecological Importance | 0 | 0 | Wildlife resources (Note—this area is being identified as important for wildlife, but not as an ACEC in the Proposed LUPA).
Castle Mountain | 0 | 22,900 | Unique plant assemblage, wildlife resources, cultural values.
Cerro Gordo-Conglomerate Mesa | 9,000 | 12,100 | Cultural values, rare plant and animal species and habitat.
Cerro Gordo Wilderness Study Area | 0 | 600 | Cultural values, desert wildlife species.
Chemehuevi | 818,900 | 875,400 | Wildlife resources, usual plant assemblages, cultural values.
Christmas Canyon | 3,400 | 3,400 | Cultural values.
Chuckwalla | 493,600 | 514,400 | Cultural values, scenic values, vegetative and wildlife resources.
Chuckwalla to Chemehuevi Tortoise Linkage | 0 | 319,900 | Wildlife resources, cultural values.
Chuckwalla Valley Dune Thicket | 2,200 | 2,200 | Vegetation resources, cultural values.
Clark Mountain | 4,300 | 0 | The majority of this ACEC is now within the Mojave National Preserve. Lands outside the Preserve are proposed to be managed within the Ivanpah ACEC.
Coachella Valley Fringe-toad Lizard | 10,300 | 10,300 | Unique geologic features, wildlife resources, cultural values.
Coolgardie Mesa | 9,800 | 9,800 | Vegetative resources.
Corn Springs | 2,500 | 2,500 | Cultural values, hydrologic features, wildlife and vegetation resources.
Coyote Mountains Fossil Site | 5,900 | 5,900 | Geologic features, paleontological resources, wildlife resources, cultural values.
Crater Mountain Wilderness Study Area | 0 | 1,000 | Wildlife resources.
Cronese Basin | 8,500 | 8,500 | Cultural values.
Dagget Ridge Monkey Flower | 26,000 | 26,000 | Vegetative resources.
Dead Mountains | 27,200 | 27,200 | Cultural values.
Death Valley Wilderness Study Area | 0 | 47,900 | Cultural values, wildlife resources.
Denning Springs | 400 | 400 | Cultural values.
Desert Lily Preserve | 2,100 | 2,100 | Vegetative resources.
Desert Tortoise Research Natural Area | 22,200 | 22,200 | Wildlife resources.
Dos Palmas | 8,300 | 8,300 | Unique geologic features, wildlife and fish resources, cultural values.
Eagles Flyway | 0 | 11,000 | Wildlife resources.
East Mesa | 42,100 | 88,500 | Cultural values, wildlife resources.
El Paso to Golden Valley Wildlife | 0 | 57,900 | Wildlife resources, geologic features, vegetative resources.
Fossil Falls | 1,600 | 1,600 | Wildlife resources, prehistoric and historic cultural values, unique geological features.
Fremont-Kramer | 311,500 | 310,200 | Wildlife resources.
Granite Mountain Wildlife Linkage | 0 | 39,300 | Wildlife resources, plant assemblages.
Great Falls Basin Argus Range Wilderness Study Area | 0 | 10,300 | Wildlife resources.
Halloran Wash | 1,700 | 1,700 | Cultural values.
Harper Dry Lake | 500 | 500 | Riparian resources, wildlife resources.
Horse Canyon | 1,500 | 1,500 | Cultural values, paleontological resources, vegetative resources.
Independence Creek Wilderness Study Area | 0 | 6,800 | Wildlife resources.
Indian Pass | 1,900 | 1,900 | Cultural values, vegetative resources.
Ivanpah | 35,000 | 78,300 | Wildlife resources, cultural values.
Jawbone/Butterbredt | 147,800 | 153,200 | Wildlife resources, cultural values, vegetative resources.
Juniper Flats Cultural Area | 2,400 | 2,400 | Cultural values, wildlife resources.
Kelso Creek Monkeyflower | 1,900 | 1,900 | Vegetative resources.
Kingston Range | 18,900 | 18,900 | Wildlife and vegetative resources, cultural values.
Kingston Range Wilderness Study Area | 0 | 40,000 | Wildlife resources.
Lake Cahuilla | 14,000 | 8,600 | Cultural values.
Last Chance Canyon | 5,100 | 5,100 | Cultural values, wildlife resources.
Manix Paleontological Area | 2,900 | 2,900 | Paleontological resources, cultural values, wildlife resources.
Manzanar | 0 | 500 | Cultural values.
Marble Mountain Fossil Bed | 200 | 200 | Geologic features, paleontological resources.
McCoy Valley | 0 | 26,200 | Wildlife resources.
McCoy Wash | 0 | 6,400 | Plant assemblage, wildlife resources.
Mesquite Hills/Crucero | 5,000 | 5,000 | Cultural values.
Mesquite Lake | 6,700 | 6,700 | Cultural values.
Middle Knob | 17,800 | 17,800 | Vegetative resources.
Mojave Fishhook Cactus | 600 | 600 | Vegetative resources.
Mojave Fringe-toad Lizard | 22,200 | 22,400 | Wildlife and vegetative resources.
Mojave Ground Squirrel | 0 | 198,600 | Wildlife and vegetative resources.
Mopah Spring | 1,900 | 1,900 | Wildlife resources, cultural values.
Mountain Pass Dinosaur Trackway | 600 | 600 | Paleontological resources.
Mule McCoy Linkage | 0 | 51,500 | Wildlife resources, plant assemblage, cultural values.
Mule Mountains | 4,100 | 4,100 | Wildlife resources.
North Algodones Dunes | 0 | 0 | During the DRECP process, this ACEC designation was removed through the Imperial Sand Dunes Recreation Area (ISDRA) Management Plan ROD (June 2013). It is reflected in the range of alternatives. The Proposed LUPA would adopt the decision made in the ISDRA ROD.
Northern Lucerne Wildlife Linkage | 0 | 21,900 | Wildlife resources, plant assemblages.
Ocotillo | 0 | 14,600 | Cultural values, wildlife resources.
Olancha Greasewood | 0 | 25,600 | Unusual plant assemblage.
Old Woman Springs Wildlife Linkage | 0 | 56,000 | Wildlife resources.
Ord-Rodman | 218,800 | 230,900 | Wildlife resources.
Owens Lake | 0 | 10,300 | Cultural values, wildlife and plant resources.
Palen Dry Lake | 0 | 3,600 | Cultural values, wildlife resources.
Palen Ford Playa Dunes | 0 | 41,400 | Playa/dune system, wildlife resources, cultural values.
Panamint and Argus | 0 | 125,500 | Desert wetland communities, cultural values.
Parish's Phacelia | 500 | 500 | Vegetative resources.
Patton Military Camps | 3800 | 16,500 | Cultural values.
Picacho | 0 | 184,500 | Wildlife and vegetative resources, cultural values.
Pilot Knob | 900 | 900 | Cultural values.
Pinto Mountains | 110,000 | 110,000 | Wildlife resources.
Pipes Canyon | 0 | 8,500 | Cultural values.
Pisgah Research Natural Area | 18,100 | 42,100 | Wildlife resources, plant assemblages.
Piute-Fenner | 151,900 | 155,700 | Wildlife resources, cultural resources.
Plank Road | 300 | 300 | Cultural values.
Rainbow Basin/Owl Canyon | 4,100 | 4,100 | Wildlife resources, geologic features, paleontological resources.
Red Mountain Spring | 700 | 700 | Cultural values, wildlife resources.
Rodman Mountains Cultural Area | 6,200 | 6,200 | Cultural values, wildlife resources.
Rose Spring | 800 | 800 | Cultural values.
Saline Valley | 1,400 | 1,400 | Cultural values, wildlife resources, unique vegetation communities.
Salt Creek Hills | 2,200 | 2,200 | Vegetation resources, riparian resources, cultural values.
Salton Seas Hazardous | 0 | 7,100 | Public hazard.
San Sebastian Marsh/San Felipe Creek | 6,500 | 6,500 | Cultural values, wildlife resources.
Sand Canyon | 2,600 | 2,600 | Wildlife and vegetative resources, cultural values.
Santos Manuel | 0 | 27,500 | Wildlife resources, cultural values.
Shadow Valley | 95,800 | 197,500 | Wildlife resources, cultural values.
Shoreline | 11,600 | 35,800 | Cultural values.
Short Canyon | 800 | 800 | Wildlife and vegetative resources.
Sierra Canyons | 0 | 26,400 | Cultural values, wildlife resources.
Singer Geoglyphs | 1,900 | 1,900 | Cultural values, vegetative resources.
Soda Mountain Expansion | 0 | 16,700 | Wildlife resources, cultural values.
Soda Mountains Wilderness Study Area | 0 | 88,800 | Cultural values, wildlife and vegetative resources.
Soggy Dry Lake Creosote Rings | 200 | 200 | Unusual plant assemblage.
Southern Inyo Wilderness Study Area | 0 | 2,900 | Wildlife resources.
Steam Well | 40 | 40 | Cultural values.
Superior-Cronese | 404,800 | 397,400 | Wildlife resources.
Surprise Canyon | 4,600 | 4,600 | Wildlife resources, riparian resources.
Symmes Creek Wilderness Study Area | 0 | 8,400 | Wildlife resources, cultural values.
Tehachapi Linkage | 0 | 0 | Wildlife resources (Note—this area is being identified as important for wildlife, but not as an ACEC in the Proposed LUPA.).
Trona Pinnacles National Natural Landmark | 4,000 | 4,000 | Unique geologic features, wildlife resources.
Turtle Mountains | 50,400 | 50,400 | Wildlife resources.
Upper Johnson Valley Yucca Rings | 300 | 300 | Unusual plant assemblage.
Upper McCoy | 0 | 37,300 | Wildlife resources, cultural values, unusual plant assemblage.
Warm Sulfur Springs | 300 | 300 | Desert marsh habitat, unique geologic and hydrologic features, cultural values.
West Mesa | 20,300 | 82,600 | Wildlife resources, cultural values.
West Paradise | 200 | 200 | Vegetative resources.
Western Rand Mountains | 31,100 | 30,300 | Wildlife resources.
Whipple Mountains | 2,800 | 2,800 | Geologic features, cultural values.
White Mountain City | 800 | 800 | Cultural values.
White Mountains Wilderness Study Area | 0 | 8,800 | Wildlife resources.
Whitewater Canyon | 14,000 | 14,000 | Riparian resources, wildlife resources, scenic resources, cultural values.
Yuha Basin | 68,300 | 77,300 | Cultural values, vegetative and wildlife resources.

Copies of the DRECP Proposed LUPA/Final EIS are available for public inspection at the following locations:

• BLM California State Office, 2800 Cottage Way, Suite W-1623, Sacramento, CA;

• BLM California Desert District Office, 22835 Calle San Juan De Los Lagos, Moreno Valley, CA 92553;

• BLM Barstow Field Office, 2601 Barstow Road, Barstow, CA 92311;

• BLM El Centro Field Office, 1661 S. 4th Street, El Centro, CA 92243;

• BLM Needles Field Office, 1303 S. Highway 95, Needles, CA 92363;

• BLM Palm Springs South Coast Field Office, 1201 Bird Center Drive, Palm Springs, CA 92262;

• BLM Ridgecrest Field Office, 300 S. Richmond Road, Ridgecrest, CA 93555;

• BLM Bakersfield Field Office, 3801 Pegasus Drive, Bakersfield, CA 93308; and

• BLM Bishop Field Office, 351 Pacu Lane, Suite 100, Bishop, CA 93514.

Before including your phone number, email address, or other personal identifying information in your comment, you should be aware that your entire comment letter—including your personal identifying information—may be made publicly available at any time. While you can ask us in your comment to withhold your personal identifying information from public review, we cannot guarantee that we will be able to do so.

Authority: 43 CFR 1610.2, 43 CFR 1610.5, 43 CFR 1610.7-2(b)

Thomas Pogacnik,
Deputy State Director, Bureau of Land Management.

[FR Doc. 2016-05562 Filed 3-10-16; 8:45 am]

BILLING CODE 4310-40-P